DEPARTMENT OF HOMELAND SECURITY

Coast Guard

33 CFR Part 117

[CGD05-03-037]

RIN 1625-AA09

Drawbridge Operation Regulations; Elizabeth River Southern Branch, AICWW, Virginia

AGENCY: Coast Guard, DHS.

ACTION: Notice of temporary deviation from regulations.

SUMMARY: The Commander, Fifth Coast Guard District, has approved a temporary deviation from the regulations governing the operation of the Dominion (Steel) Bridge across the Elizabeth River (Southern Branch) Atlantic Intracoastal Waterway (AICWW) mile 8.8, at Chesapeake, Virginia to allow the bridge owner to conduct needed mechanical work. The work will be performed at night. The closure periods to navigation are from 8 p.m. to 7 a.m., on Fridays and Saturdays, and from 8 p.m. to 5 a.m., on Sundays to Mondays.

DATES: This deviation is effective from 8 p.m. on May 2, 2003, to 5 a.m. on June 9, 2003.

FOR FURTHER INFORMATION CONTACT: Bill Brazier, Bridge Management Specialist, Fifth Coast Guard District, at (757) 398-6422.

SUPPLEMENTARY INFORMATION: The City of Chesapeake has requested a temporary deviation from the current operating regulation set out in 33 CFR 117.997(f) which requires the drawbridge to open on signal, except that, from 7 a.m. to 9 a.m. and from 4 p.m. to 6 p.m., Monday through Friday except Federal holidays, the draw need not open for the passage of recreational vessels. The City of Chesapeake has requested the temporary deviation to allow necessary repairs to the drawbridge in a critical time sensitive manner.

The work involves the replacement of bent sections of the nose and tail locks on the moveable span of the bridge. To facilitate the replacement, the bascule span will be locked in the closed position to vessels at night for up to 11 hours on each Friday and Saturday from 8 p.m. to 7 a.m., and up to nine hours each Sunday to Monday, from 8 p.m. to 5 a.m., from May 2-5, May 9-12, May 16-19, May 30—June 2, and June 6-9, 2003. During this period, the work requires completely immobilizing the operation of the bascule span in the closed position to vessels. At all other times, the bridge will operate in accordance with the current operating regulations outlined in 33 CFR 117.997(f). Calling the project superintendent at (757) 672-4829 will provide for emergency opening requests.

The Coast Guard has informed the known users of the waterway of the closure periods for the bridge so that these vessels can arrange their transits to minimize any impact caused by the temporary deviation.

The District Commander has granted temporary deviation from the operating requirements listed in 33 CFR 117.35 for the purpose of repair completion of the drawbridge. The temporary deviation allows the Dominion (Steel) Bridge across the Elizabeth River (Southern Branch) AICWW mile 8.8, at Chesapeake, Virginia, to remain closed to navigation from May 2-5, May 9-12, May 16-19, May 30—June 2, and June 6-9, 2003; from 8 p.m. to 7 a.m., on Fridays and Saturdays, and from 8 p.m. to 5 a.m., on Sundays to Mondays.

Dated: April 22, 2003.
Waverly W. Gregory, Jr.,
Chief, Bridge Administration Section, Fifth Coast Guard District.

[FR Doc. 03-10570 Filed 4-29-03; 8:45 am]

BILLING CODE 4910-15-P